NATIONAL ARCHIVES AND RECORDS ADMINISTRATION

[NARA-2016-008]

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide agencies with mandatory instructions for what to do with records when agencies no longer need them for current Government business. The instructions authorize agencies to preserve records of continuing value in the National Archives of the United States and to destroy, after a specified period, records lacking administrative, legal, research, or other value. NARA publishes notice in the Federal Register for records schedules in which agencies propose to destroy records not previously authorized for disposal or to reduce the retention period of records already authorized for disposal. NARA invites public comments on such records schedules, as required by 44 U.S.C. 3303a(a).

DATES: NARA must receive requests for copies in writing by January 22, 2016. Once NARA appraises the records, we will send you a copy of the schedule you requested. We usually prepare appraisal memoranda that contain additional information concerning the records covered by a proposed schedule. You may also request these. If you do, we will also provide them once we have completed the appraisal. You have 30 days after we send you these requested documents in which to submit comments.

ADDRESSES: You may request a copy of any records schedule identified in this notice by contacting Records Management Services (ACNR) using one of the following means:

Mail: NARA (ACNR); 8601 Adelphi Road; College Park, MD 20740-6001.

Email: request.schedule@nara.gov.

FAX: 301-837-3698.

You must cite the control number, which appears in parentheses after the name of the agency that submitted the schedule, and a mailing address. If you would like an appraisal report, please include that in your request.

FOR FURTHER INFORMATION CONTACT: Margaret Hawkins, Director, by mail at Records Management Services (ACNR); National Archives and Records Administration; 8601 Adelphi Road; College Park, MD 20740-6001, by phone at 301-837-1799, or by email at request.schedule@nara.gov.

SUPPLEMENTARY INFORMATION: Each year, Federal agencies create billions of records on paper, film, magnetic tape, and other media. To control this accumulation, agency records managers prepare schedules proposing retention periods for records and submit these schedules for NARA's approval. These schedules provide for timely transfer into the National Archives of historically valuable records and authorize disposal of all other records after the agency no longer needs them to conduct its business. Some schedules are comprehensive and cover all the records of an agency or one of its major subdivisions. Most schedules, however, cover records of only one office or program or a few series of records. Many of these update previously approved schedules, and some include records proposed as permanent.

The schedules listed in this notice are media-neutral unless otherwise specified. An item in a schedule is media-neutral when an agency may apply the disposition instructions to records regardless of the medium in which it has created or maintains the records. Items included in schedules submitted to NARA on or after December 17, 2007, are media-neutral unless the item is specifically limited to a specific medium. (See 36 CFR 1225.12(e).)

Agencies may not destroy Federal records without the approval of the Archivist of the United States. The Archivist grants this approval only after thorough consideration of the records' administrative use by the agency of origin, the rights of the Government and of private people directly affected by the Government's activities, and whether or not the records have historical or other value.

In addition to identifying the Federal agencies and any subdivisions requesting disposition authority, lists the organizational unit(s) accumulating the records or lists that the schedule has agency-wide applicability (in the case of schedules that cover records that may be accumulated throughout an agency); provides the control number assigned to each schedule, the total number of schedule items, and the number of temporary items (the records proposed for destruction); and includes a brief description of the temporary records. The records schedule itself contains a full description of the records at the file unit level as well as their disposition. If NARA staff has prepared an appraisal memorandum for the schedule, it also includes information about the records. You may request additional information about the disposition process at the addresses above.

Schedules Pending

1. Department of Agriculture, Farm Service Agency (DAA-0145-2014-0007, 2 items, 2 temporary items). Case files and summaries of appeals and litigation, including correspondence and background materials.

2. Department of Agriculture, Farm Service Agency (DAA-0145-2014-0008, 2 items, 2 temporary items). Transition payment records and assessments of a loan program. Included are correspondence, contract folders, applications, registers, compliance documents, and program assessments.

3. Department of Agriculture, Farm Service Agency (DAA-0145-2015-0013, 3 items, 3 temporary items). Outreach, bankruptcy, and accounting records. Included are correspondence, public notifications, and reports.

4. Department of Agriculture, Farm Service Agency (DAA-0145-2015-0014, 6 items, 6 temporary items). Farm loan program files, property inventories, compliance reviews, and program documentation records.

5. Department of Agriculture, Farm Service Agency (DAA-0145-2015-0015, 2 items, 2 temporary items). Legal advice and opinion records of the Office of the General Counsel.

6. Department of Agriculture, Farm Service Agency (DAA-0161-2015-0001, 1 item, 1 temporary item). Tobacco loss assistance program files of the Commodity Credit Corporation. Included are eligibility requirements, payments records, producer folders, and reports.

7. Department of Agriculture, Food Safety Inspection Service (DAA-0584-2015-0001, 4 items, 4 temporary items). Records related to regulatory waivers, procedural changes, suitability determination, and product safety for meat, poultry, and egg product plants.

8. Department of Commerce, National Oceanic and Atmospheric Administration (DAA-0370-2015-0006, 6 items, 6 temporary items). Inspector General complaint case files, audit case files, and files containing information or allegations which are of an investigative nature but do not relate to a specific investigation.

9. Department of Defense, Office of the Secretary of Defense (DAA-0330-2015-0007, 1 item, 1 temporary item). Research files related to programs that support the military community.

10. Department of Energy, Office of Energy Efficiency and Renewable Energy (DAA-0434-2015-0011, 7 items, 6 temporary items). Records related to the development of energy efficient vehicles. Proposed for permanent retention are reports to Congress on alternative fuel.

11. Department of Health and Human Services, Indian Health Service (DAA-0513-2015-0010, 12 items, 12 temporary items). Records of the Division of Health Professions Support, including scholarship program records, successful and unsuccessful program completion files, unsuccessful applications, and monitoring files.

12. Department of Homeland Security, Immigration and Customs Enforcement (DAA-0567-2016-0001, 1 item, 1 temporary item). Records related to energy efficiency at agency facilities.

13. Department of the Navy, United States Marine Corps (DAA-0127-2014-0004, 2 items, 2 temporary items). Master files and outputs of an electronic information system used to manage and analyze collected electronic signals and communications and outputs for commands in the field.

14. Department of the Navy, United States Marine Corps (DAA-0127-2015-0004, 2 items, 2 temporary items). Master files and outputs of an electronic information system used to track and manage maintenance of Marine Corps vehicles.

15. Department of State, Bureau of Conflict and Stabilization Operations (DAA-0059-2015-0001, 2 items, 2 temporary items). Records of the Office of the Executive Director including administrative memorandums, background materials, and copies of budget materials.

16. Department of State, Bureau of Conflict and Stabilization Operations (DAA-0059-2015-0004, 4 items, 4 temporary items). Records of the Office of Overseas Operations including routine memorandums, reports, working files, and administrative records.

17. Department of Transportation, Federal Railroad Administration (DAA-0399-2015-0002, 1 item, 1 temporary item). Content records of agency social networking Web sites.

18. Department of Transportation, Surface Transportation Board (DAA-0134-2013-0020, 1 item, 1 temporary item). Studies of the effect of proposed rail line construction.

19. Department of Transportation, Surface Transportation Board (DAA-0134-2013-0021, 1 item, 1 temporary item). Studies of the effect of proposed rail line mergers, acquisitions, and other actions.

20. Environmental Protection Agency, Agency-wide (DAA-0412-2013-0010, 4 items, 3 temporary items). Routine rulemaking records, working papers, and other background records related to the development and approval process of regulations and state standards. Proposed for permanent retention are significant rulemaking records and records related to the approval, amendment, repeal, or implementation of final regulations and directives.

21. Executive Office of the President, Office of Science and Technology Policy (DAA-0359-2016-0001, 1 item, 1 temporary items). Non-substantive working papers.

22. Federal Communications Commission, Wireline Competition Bureau (DAA-0173-2016-0007, 1 item, 1 temporary item). Records include copies of infrastructure sharing agreements and transmittal cover letters.

23. National Archives and Records Administration, Agency-wide (DAA-0064-2015-0003, 1 item, 1 temporary item). Routine administrative records common to all offices.

24. National Archives and Records Administration, Research Services (N2-64-15-1, 6 items, 6 temporary items). Records of the National Archives and Records Administration related to a cluster of holdings associated with foreign affairs records including receipts, working files and background materials, and samples to support disposal requests. These records were accessioned to the National Archives but lack sufficient historical value to warrant continued preservation.

25. Securities and Exchange Commission, Agency-wide (DAA-0266-2016-0004, 2 items, 1 temporary item). Supporting documentation for studies and reports. Proposed for permanent retention are congressionally mandated studies and reports.

Dated: December 14, 2015.
Laurence Brewer,
Director, Records Management Operations.

[FR Doc. 2015-32303 Filed 12-22-15; 8:45 am]

BILLING CODE 7515-01-P